DEPARTMENT OF THE INTERIOR

National Park Service

National Register of Historic Places; Notification of Pending Nominations and Related Actions

Nominations for the following properties being considered for listing or related actions in the National Register were received by the National Park Service before October 18, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by November 18, 2008.

Erika Martin-Seibert,
Acting Chief, National Register of Historic Places/National Historic Landmarks Program.

DISTRICT OF COLUMBIA

District of Columbia

Strand Theater, 5129-5131 Nannie Helen Burroughs Ave., NE., Washington, DC, 08001093

Third Baptist Church, 1546 5th St., NW., Washington, DC, 08001094

ILLINOIS

Cook County

Frank Lloyd Wright-Prairie School of Architecture Historic District (Boundary Increase), Roughly bounded by Division St., on the N., N. Cuyler Ave., on the E., Lake St., on the S. and N. Harlem Ave on the W., Oak Park, 08001096

Lindemann and Hoverson Company Showroom and Warehouse, 2620 W. Washington Blvd., Chicago, 08001095

Otis Elevator Company Factory Building, 1435 W. 15th St. and 1501 S. Laflin St., Chicago, 08001097

Du Page County

Robbins Park Historic District, Bounded by Chicago Ave., 8th St., County Line Rd., and Garfield St., Hinsdale, 08001098

IOWA

Jones County

Stone City Historic District, 12828-12573 Stone City Rd., 12392-12340 Dearborn Rd., 12381-12551 County Rd. X28, Anamosa, 08001099

Wapello County

Burlington Depot, 210 W. Main St., Ottumwa, 08001100

MARYLAND

Anne Arundel County

Universal Lodge No. 14, 64 Clay St., Annapolis, 08001101

MICHIGAN

Ingham County

Ottawa Street Power Station, 217 E. Ottawa St., Lansing, 08001103

Kent County

Alten, Mathias, House and Studio, 1593 E. Fulton St., Grand Rapids, 08001102

Montcalm County

Greenville Downtown Historic District, Lafayette between Montcalm and Benton and adjacent block of Montcalm, Grove, Cass, and Washington on either side, Greenville, 08001104

MICHIGAN

Oakland County

McCoy, Kittie C., House, 1455 Benstein Rd., Commerce, 08001105

Wayne County

Midtown Woodward Historic District, 2951-3424 Woodward, 14 Charlotte, 10 and 25 Peterboro, Detroit, 08001106

MONTANA

Missoula County

Maclean Cabin, 6014 Boyscout Rd., Seeley Lake, 08001107

NEW JERSEY

Burlington County

Old Schoolhouse, 35 Brainerd St., Mount Holly, 08001108

Somerset County

Baker-Dauderstadt Farm, 30 DuBois Rd., Warren, 08001109

PUERTO RICO

San Juan Municipality

Condado Vanderbilt Hotel, 1055 Ashford Ave., San Juan, 08001110

TENNESSEE

Marion County

Hale's Bar Dam Powerhouse, 1265 Hale's Bar Rd., Haletown, 08001111

VIRGINIA

Clarke County

Bear's Den Rural Historic District, Generally runs along both sides of ridge along parts of Raven Rocks and Blue Ridge Mtn. Rds., Bluemont, 08001112

Loudoun County

Arcola Slave Quarters, 24837 Evergreen Mills Rd., Arcola, 08001113

Bear's Den Rural Historic District, Generally runs along both sides of ridge along parts of Raven Rocks and Blue Ridge Mtn. Rds., Bluemont, 08001112

Sussex County

Glenview, 13098 Comans Well Rd., Stony Creek, 08001114

WISCONSIN

Columbia County

Mills, Rob, Block, 109-111 S. Main St., Lodi, 08001115

In the interest of preservation the comment period for the following action has been shortened to three (3) days.

Request for MOVE has been made for the following resources:

VIRGINIA

Mathews County

James, Thomas, Old, Store, Main and Maple Sts., Mathews Court House, 08000244

[FR Doc. E8-26092 Filed 10-31-08; 8:45 am]

BILLING CODE 4310-70-P